NEIGHBORHOOD REINVESTMENT CORPORATION

Annual Board of Directors Meeting; Sunshine Act

TIME AND DATE: 1:00 p.m., Monday, June 16, 2014.

PLACE: NeighborWorks America—Gramlich Boardroom, 999 North Capitol Street NE., Washington, DC 20002.

STATUS: Open (with the exception of Executive Session).

CONTACT PERSON: Jeffrey Bryson, General Counsel/Secretary (202) 760-4101; jbryson@nw.org.

AGENDA:

I. Call to Order

II. Approval of Minutes

III. Executive Session: Officer & Internal Auditor Compensation & Other Personnel Matters

IV. Executive Session: CEO Search Committee Update

V. Executive Session: Transition Update

VI. Board Elections & Appointments

VII. Approval of FY13 Audit

VIII. Capital Corporation Grants

IX. Strength Matters Overview, Structure & Procurement

X. Federal FY16 Budget Submission & Timeline for Submission

XI. Sustainable Homeownership Update

XII. Quarterly Financial Report

XIII. Corporate Scorecard Report

XIV. Adjournment

Jeffrey T. Bryson,
EVP & General Counsel/Corporate Secretary.

[FR Doc. 2014-13591 Filed 6-6-14; 4:15 pm]

BILLING CODE 7570-02-P